DEPARTMENT OF HOUSING AND URBAN DEVELOPMENT

[Docket No. FR-4805-C-02]

Notice of Funding Availability (NOFA) for the Collaborative Initiative To Help End Chronic Homelessness; Correction

AGENCIES: Substance Abuse and Mental Health Services Administration, and Health Resources and Services Administration, HHS; Office of Community Planning and Development, HUD; Substance Abuse, Mental Health and Provider Care Services, VA.

ACTION: Notice of funding availability (NOFA) for the Collaborative Initiative to Help End Chronic Homelessness; correction.

SUMMARY: On January 27, 2003, HUD, HHS, and VA published the Notice of Funding Availability (NOFA) for the Collaborative Initiative to Help End Chronic Homelessness. This document makes three technical corrections to the NOFA.

FOR FURTHER INFORMATION CONTACT: U.S. Interagency Council on the Homeless at 1-866-450-2273 (this number may also be dialed as 1-866-450-CARE) (these are toll-free telephone numbers). Persons with hearing and/or speech challenges may access the above telephone number by TTY (text telephone) by calling the Federal Relay Service at 1-800-877-8339 (this is a toll-free number).

SUPPLEMENTARY INFORMATION: On January 27, 2003, HUD, HHS, and VA published the Notice of Funding Availability (NOFA) for the Collaborative Initiative to Help End Chronic Homelessness (68 FR 4018). Subsequent to publication, an error was discovered with the definition of “family” in the introductory section of the NOFA. This notice corrects that error by publishing the correct definition. In addition, it was determined that the description of grant terms for the HUD awards, as described in the introductory section, was unclear and this notice provides clarification on the term of the awards. Finally, it was determined that HUD section III.E., titled “Special Provisions Applicable to this NOFA,” should clarify that supportive service activities are not eligible activities under the Supportive Housing Program (SHP), and that clarification is also made by this notice.

Accordingly, the Notice of Funding Availability (NOFA) for the Collaborative Initiative to Help End Chronic Homelessness, published in the Federal Register on January 27, 2003, (68 FR 4018) is corrected as follows:

1. On page 4019, in the first column, in the second paragraph under the heading “Target Population”, the definition of “family” is corrected to read as follows: “For the purposes of this NOFA, a family is defined as an adult person with a disabling condition as defined below, who is accompanied by at least one dependent child.”

2. On page 4019, in the middle column, the first bulleted paragraph is corrected to read as follows: “Approximately $20 million is expected to be awarded by HUD for terms of three or five years to fund permanent housing activities. HUD's funds may be used under specified components of the Supportive Housing Program, which funds acquisition, minor rehabilitation, leasing, and operating costs for permanent housing for three (3) years, or specified components of the Shelter Plus Care Program, which provides rental assistance to tenants for five (5) years.”

3. On page 4030, in the middle column, the first sentence numbered paragraph 6 is corrected to read as follows: “New construction, substantial rehabilitation activities, and supportive service activities will not be eligible SHP activities under this notice.”

Dated: February 19, 2003.
Patricia Carlile,
Deputy Assistant Secretary for Special Needs Assistance.

[FR Doc. 03-4341 Filed 2-20-03; 9:32 am]

BILLING CODE 4210-29-P